DEPARTMENT OF COMMERCE

International Trade Administration

U.S. Commercial Service Trade Specialist Counseling Session Survey

ACTION: Proposed collection; comment request.

SUMMARY: The Department of Commerce, as part of its continuing effort to reduce paperwork and respondent burdens, invites the general public and other Federal agencies to take this opportunity to comment on the continuing information collections, as required by the Paperwork Reduction Act of 1995, Pub. L. 104-13 (44 U.S.C. 3506(2)(A)).

DATES: Written comments must be submitted on or before January 3, 2005.

ADDRESSES: Direct all written comments to Diana Hynek, Departmental Paperwork Clearance Officer, Department of Commerce, Room 6625, 14th & Constitution Avenue, NW., Washington, DC 20230. E-mail: dHynek@doc.gov.

FOR FURTHER INFORMATION CONTACT: Request for additional information or copies of the information collection instrument and instructions should be directed to: Tish Falco, 14th & Constitution Avenue, NW., Washington, DC 20230; Phone number: 202-482-3388; E-mail: tish.falco@mail.doc.gov.

SUPPLEMENTARY INFORMATION:

I. Abstract

The International Trade Administration's U.S. Commercial Service is mandated by Congress to help U.S. businesses, particularly small and medium-sized companies, export their products and services to global markets. As part of its mission, the U.S. Commercial Service uses “Quality Assurance Surveys” to collect feedback from the U.S. business clients it serves. The subject survey deals with a particular aspect of service provided by U.S. Commercial Service trade specialists. These specialists counsel clients about their international marketing needs and work with the clients to provide global trade solutions. A significant part of a trade specialist's role is to counsel clients, and the majority of time with clients is spent counseling. The subject survey asks clients whether they are satisfied with the counseling they have received from U.S. Commercial Service domestic trade specialists. Results from the survey will be used to make improvements to the agency's business processes, in order to provide better and more effective export assistance to U.S. companies.

II. Method of Collection

Form ITA-XXXX is sent to U.S. companies that receive counseling from U.S. Commercial Service trade specialists

III. Data

OMB Number: 0625-XXXX.

Form Number: ITA-XXXX.

Type of Review: Regular submission.

Affected Public: U.S. companies who have participated in counseling sessions with U.S. Commercial Service trade specialists.

Estimated Number of Respondents: 1700.

Estimated Time Per Response: 10 minutes.

Estimated Total Annual Burden Hours: 170 hours.

Estimated Total Annual Costs: The estimated annual cost for this collection is $8,619.

IV. Request for Comments

Comments are invited on (a) whether the proposed collection of information is necessary for proper performance of the functions of the agency, including whether the information shall have practical utility; (b) the accuracy of the agency's estimate of the burden (including hours and costs) of the proposed collection of information; (c) ways to enhance the quality, utility, and clarity of the information to be collected; and (d) ways to minimize the burden of the collection of information on respondents, including through the use of automated collection techniques or forms of information technology.

Comments submitted in response to this notice will be summarized and/or included in the request for OMB approval of this information collection; they will also become a matter of public record.

Dated: October 28, 2004.
Madeleine Clayton,
Management Analyst, Office of the Chief Information Officer.

[FR Doc. 04-24490 Filed 11-2-04; 8:45 am]

BILLING CODE 3510-FP-P